SMALL BUSINESS ADMINISTRATION

[Declaration of Disaster #3633]

State of West Virginia (Amendment #4)

In accordance with a notice received from the Department of Homeland Security—Federal Emergency Management Agency—effective October 28, 2004, the above numbered declaration is hereby amended to include Logan County as a disaster area due to damages caused by severe storms, flooding and landslides occurring on September 16, 2004, and continuing through September 27, 2004.

All other counties contiguous to the above named primary county have previously been declared. All other information remains the same, i.e., the deadline for filing applications for physical damage is November 19, 2004 and for economic injury the deadline is June 20, 2005.

(Catalog of Federal Domestic Assistance Program Nos. 59002 and 59008).

Dated: October 28, 2004.
S. George Camp,
Acting Associate Administrator for Disaster Assistance.

[FR Doc. 04-24496 Filed 11-2-04; 8:45 am]

BILLING CODE 8025-01-P